DEPARTMENT OF HOUSING AND URBAN DEVELOPMENT

[Docket No. FR-5044-N-11]

Notice of Proposed Information Collection for Public Comments for the Indian Community Development Block Grant (ICDBG) Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 21, 2006.

ADDRESSES: Interested persons are invited to submit comments regarding this proposal. Comments should refer to the proposal by name and/or OMB Control number and should be sent to: Lillian L. Deitzer, Reports Liaison Officer, Public and Indian Housing, Department of Housing and Urban Development, 451 7th Street, SW., L'Enfant Plaza Room 8001, Washington, DC 20410-5000 or e-mail: Lillian_L._Deitzer@hud.gov.

FOR FURTHER INFORMATION CONTACT: Aneita Waites, (202) 708-0614, extension 4116. (This is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses. This Notice also lists the following information:

Title of Proposal: Indian Community Development Block Grant Program (ICDBG).

OMB Control Number: 2577-0191.

Description of the need for the information and proposed use: The Indian Community Development Block Grant Program for Indian tribes and Alaska Native villages requires eligible applicants to submit information to enable HUD to select the best projects for funding during annual competitions. HUD uses the information to determine whether applications meet minimum screening eligibility requirements and application submission requirements. They provide general information about the project and are preliminary to the review of the applicant's response to the criteria for rating the application. The information is collected at the time of grant application and is required to identify the applicant, describe the project, and comply with requirements of law or regulation. Additionally, the requirements are essential for HUD in monitoring grants to ensure that grantees are making proper use of Federal dollars.

Agency form numbers, if applicable: Form HUD-4123, HUD-4125, HUD-2880 HUD-2993 and SF 424.

Members of affected public: Tribal Governments.

Estimation of the total number of hours needed to prepare the information collection including number of respondents, frequency of response, and hours of response: 225 respondents based on the Department's prior competition experience for this program, once each time the applicant decides to compete, an average of 3 hours per application, for a total reporting burden of 660 hours.

Status of the proposed information collection: Extension of currently approved collection.

Authority: Section 3506 of the Paperwork Reduction Act of 1995, 44 U.S.C. chapter 35, as amended.

Dated: June 13, 2006.
Bessy Kong,
Deputy Assistant Secretary, Office Policy, Program and Legislative Initiatives.

[FR Doc. E6-9599 Filed 6-19-06; 8:45 am]

BILLING CODE 4210-67-P